SECURITIES AND EXCHANGE COMMISSION

Sunshine Act Meeting

Federal Register Citation of Previous Announcement: 69 FR 6007, February 9, 2004.

Status: Closed meeting.

Place: 450 Fifth Street, NW., Washington, DC.

Date and Time of Previously Announced Meeting: Wednesday, February 11, 2004, at 12:30 p.m.

Change in the Meeting: Time change.

The closed meeting scheduled for Wednesday, February 11, 2004, at 12:30 p.m. has been changed to Wednesday, February 11, 2004, at 9 a.m.

At times, changes in Commission priorities require alterations in the scheduling of meeting items. For further information and to ascertain what, if any, matters have been added, deleted or postponed, please contact the Office of the Secretary at (202) 942-7070.

Dated: February 10, 2004.
Jonathan G. Katz,
Secretary.

[FR Doc. 04-3191 Filed 2-10-04; 10:49 am]

BILLING CODE 8010-01-P